DEPARTMENT OF COMMERCE

International Trade Administration

[C-570-068]

Forged Steel Fittings From the People's Republic of China: Postponement of Preliminary Determination in the Countervailing Duty Investigation

AGENCY: Enforcement and Compliance, International Trade Administration, Department of Commerce.

DATES: Applicable December 15, 2017.

FOR FURTHER INFORMATION CONTACT: Brian Smith at (202) 482-1766 or Jaron Moore at (202) 482-3640, AD/CVD Operations, Enforcement and Compliance, International Trade Administration, U.S. Department of Commerce, 1401 Constitution Avenue NW, Washington, DC 20230.

SUPPLEMENTARY INFORMATION:

Background

On October 25, 2017, the Department of Commerce (the Department) initiated a countervailing duty (CVD) investigation of forged steel fittings from the People's Republic of China.¹ Currently, the preliminary determination is due no later than December 29, 2017.

¹ See Forged Steel Fittings From the People's Republic of China: Initiation of Countervailing Duty Investigation, 82 FR 50623 (November 1, 2017) (Initiation Notice).

Postponement of Preliminary Determination

Section 703(b)(1) of the Tariff Act of 1930, as amended (the Act), requires the Department to issue the preliminary determination in a CVD investigation within 65 days after the date on which the Department initiated the investigation. However, section 703(c)(1)(A) of the Act permits the Department to postpone the preliminary determination until no later than 130 days after the date on which the Department initiated the investigation if the petitioners ² make a timely request for a postponement. Under 19 CFR 351.205(e), the petitioners must submit a request for postponement 25 days or more before the scheduled date of the preliminary determination and must state the reasons for the request. The Department will grant the request unless it finds compelling reasons to deny the request.

² The petitioners are the Bonney Forge Corporation and the United Steel, Paper and Forestry, Rubber, Manufacturing, Energy, Allied Industrial and Service Workers International Union (USW).

On November 24, 2017, the petitioners submitted a timely request that the Department postpone the preliminary CVD determination.³ Noting the comments filed with respect to respondent selection and the scope of the investigation, the petitioners stated that a postponement is necessary due to the difficulty in determining which companies imported subject merchandise, and the possibility that the Department may find it necessary to select additional respondents or issue quantity and value questionnaires. Finally, the petitioners state that a postponement is necessary to allow them sufficient time to identify additional subsidy benefits not addressed in the Petition once the Department identifies the mandatory respondents.

³ See the petitioners' letter, “Re: Forged Steel Fittings from the People's Republic of China: Request to Postpone Preliminary Determination,” dated November 24, 2017.

In accordance with 19 CFR 351.205(e), the petitioners stated the reasons for requesting a postponement of the preliminary determination, and the Department finds no compelling reason to deny the request. Therefore, in accordance with section 703(c)(1)(A) of the Act, the Department is postponing the deadline for the preliminary determination to no later than 130 days after the date on which this investigation was initiated, i.e., March 5, 2018.⁴ Pursuant to section 705(a)(1) of the Act and 19 CFR 351.210(b)(1), the deadline for the final determination of this investigation will continue to be 75 days after the date of the preliminary determination, unless postponed at a later date.

⁴ Postponing the preliminary determination to 130 days after initiation would place the deadline on Sunday, March 4, 2018. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: November 30, 2017.
Gary Taverman,
Deputy Assistant Secretary for Antidumping and Countervailing Duty Operations performing the non-exclusive duties of the Assistant Secretary for Enforcement and Compliance.

[FR Doc. 2017-27081 Filed 12-14-17; 8:45 am]

BILLING CODE 3510-DS-P